DEPARTMENT OF COMMERCE

International Trade Administration

[A-533-820]

Certain Hot-Rolled Carbon Steel Flat Products from India: Notice of Intent to Rescind Antidumping Duty Administrative Review In Part and Notice of Extension of Time Limits for Preliminary Results of Antidumping Duty Administrative Review

AGENCY: Import Administration, International Trade Administration, Department of Commerce.

EFFECTIVE DATE: August 20, 2008.

FOR FURTHER INFORMATION CONTACT: Joy Zhang at (202) 482-1168 or James Terpstra at (202) 482-3965, AD/CVD Operations, Office 3, Import Administration, International Trade Administration, U.S. Department of Commerce, 14th Street and Constitution Avenue, NW, Washington, DC 20230.

SUPPLEMENTARY INFORMATION:

Background

On December 31, 2007, United States Steel Corporation (“Petitioner”) and Nucor Corporation requested an administrative review of the antidumping duty order on certain hot-rolled carbon steel flat products (“Indian Hot-Rolled”), which were produced or exported by Ispat Industries Limited (“Ispat”), JSW Steel Limited (“JSW”), Tata Steel Limited (“Tata”), and Essar Steel Limited (“Essar”). On January 28, 2008, the Department of Commerce (“the Department”) published a notice of initiation of antidumping duty administrative review of Indian Hot-Rolled for the period December 1, 2006, through November 30, 2007. See Initiation of Antidumping and Countervailing Duty Administrative Reviews and Request for Revocation in Part, 73 FR 4829 (January 28, 2008) (Initiation Notice). The preliminary results are currently due no later than September 1, 2008.

Partial Rescission of Administrative Review with Respect to Ispat, JSW, and Tata

On February 25, 2008, the Department issued a memorandum informing the interested parties of the Department's intention to limit the number of companies it would examine in this review pursuant to section 777A(c)(2) of the Tariff Act of 1930, as amended (the “Act”). The Department indicated that its respondent selection would be made based on the entry data from U.S. Customs and Border Protection (“CBP”) for Indian Hot-Rolled during the period of review (“POR”). The Department set aside a period of seven calendar days for interested parties to raise issues regarding the use of CBP data for respondent selection in this review. See Memorandum to File, Re: “2006-2007 Antidumping Duty Administrative Review of Certain Hot-Rolled Carbon Steel Flat Products from India, “ Subject: “Customs and Border Protection Data for Selection of Respondents for Individual Review,” from Cindy Robinson, Senior Financial Analyst, through James Terpstra, Program Manager, and Melissa Skinner, Office Director, Office 3, AD/CVD Operations, dated February 25, 2008 (“Hot-Rolled Memo”).

On February 26-27, 2008, Ispat, Tata, and JSW each informed the Department that they did not have shipments of the subject merchandise to the United States during the POR. On March 3, 2008, Petitioner submitted its comments in response to the Hot-Rolled Memo stating that since the Department issued the Hot-Rolled Memo, Ispat, JSW, and Tata have each certified that they had no shipments of subject merchandise to the United States during the POR, and their assertions are confirmed by the CBP data. Therefore, Petitioner asserted that the Department should rescind the instant administrative review with respect to Ispat, JSW, and Tata.

Pursuant to 19 CFR 351.213(d)(3), the Department may rescind an administrative review, “with respect to a particular exporter or producer, if the Secretary concludes that, during the period covered by the review, there were no entries, exports, or sales of the subject merchandise, as the case may be.” We examined CBP entry data for the three exporters/manufacturers: Ispat, JSW, and Tata, and we are satisfied that the record indicates that there were no U.S. entries of subject merchandise from these three companies during the POR. Accordingly, following the Department's practice, we are preliminarily rescinding this review with respect to Ispat, JSW, and Tata. See, e.g., Certain Frozen Fish Fillets From the Socialist Republic of Vietnam: Notice of Preliminary Results and Partial Rescission of the Third Antidumping Duty Administrative Review, 72 FR 53527, 53530 (September 19, 2007), unchanged in final, Certain Frozen Fish Fillets From the Socialist Republic of Vietnam: Final Results of Antidumping Duty Administrative Review and Partial Rescission, 73 FR 15479, 15480 (March 24, 2008).

After the preliminary partial rescission of Ispat, JSW, and Tata, only one respondent, Essar, remains in this review.

Extension of Time Limit of Preliminary Results

Section 751(a)(3)(A) of the Act requires the Department to make a preliminary determination within 245 days after the last day of the anniversary month of an order or finding for which a review is requested. Section 751(a)(3)(A) of the Act further states that if it is not practicable to complete the review within the time period specified, the administering authority may extend the 245-day period to issue its preliminary results to up to 365 days.

We determine that it is not practicable to complete this administrative review within the time limits mandated by section 751(a)(3)(A) of the Act because we require additional time to analyze the sales and cost data submitted by Essar and issue supplemental questionnaires to the company. Therefore, we are extending the time period for issuing the preliminary results of review by 60 days. The preliminary results are now due no later than October 31, 2008. The final results continue to be due 120 days after publication of the preliminary results.

This notice is issued and published in accordance with sections 751 of the Act and 19 CFR 351.213(d)(4).

Dated: August 14, 2008.
Stephen J. Claeys,
Deputy Assistant Secretary for Import Administration.

[FR Doc. E8-19315 Filed 8-19-08; 8:45 am]

BILLING CODE 3510-DS-S